OFFICE OF THE UNITED STATES TRADE REPRESENTATIVE

Performance Review Board Membership

AGENCY: Office of the United States Trade Representative.

ACTION: Notice.

SUMMARY: This notice announces the Office of the United States Trade Representative (USTR) staff members selected to serve on the Senior Executive Service (SES) and Senior Level (SL) Performance Review Board (PRB). This notice supersedes all previous PRB membership notices.

DATES: The staff members in this notice will begin serving as PRB members on February 9, 2024.

FOR FURTHER INFORMATION CONTACT: Cassie Ender, Human Capital Specialist, Office of Human Capital and Services, at (202) 881-7782 or Cassie.L.Ender@ustr.eop.gov.

SUPPLEMENTARY INFORMATION: USTR is required (see 5 U.S.C. 4314(c)) to establish a PRB to review and make recommendations to the U.S. Trade Representative for final approval of the performance rating, performance-based pay adjustment, and performance award for each incumbent SES and SL. The following staff members have been selected to serve on USTR's PRB:

Chair: Rachel Howe, Assistant U.S. Trade Representative for ICTIME.

Member: Daniel Lee, Assistant U.S. Trade Representative for Innovation and Intellectual Property.

Member: Daniel Watson, Assistant U.S. Trade Representative for Western Hemisphere Affairs.

Member: Julie Callahan, Assistant U.S. Trade Representative for Agricultural Affairs.

Member: Juan Millan, Assistant U.S. Trade Representative for Monitoring and Investment.

Fred Ames,
Assistant U.S. Trade Representative for Administration, Office of the United States Trade Representative.

[FR Doc. 2024-02714 Filed 2-8-24; 8:45 am]

BILLING CODE 3390-F4-P